DEPARTMENT OF COMMERCE

International Trade Administration

[A-475-810, C-475-819, A-489-805, C-489-806, A-588-838]

Continuation of Countervailing and Antidumping Duty Orders: Pasta from Italy and Turkey, and Clad Steel Plate From Japan

AGENCY: Import Administration, International Trade Administration, Department of Commerce.

ACTION: Notice of continuation of Countervailing and Antidumping Duty Orders: Pasta from Italy and Turkey, and Clad Steel Plate from Japan.

SUMMARY: The Department of Commerce (“the Department”), pursuant to sections 751(c) of the Tariff Act of 1930, as amended (“the Act”), determined that revocation of the countervailing and antidumping duty orders on certain pasta (“pasta”) from Italy and Turkey, and the antidumping duty order on clad steel plate from Japan, would be likely to lead to continuation or recurrence of a countervailable subsidy or dumping.¹ On November 2, 2001, the International Trade Commission (“the Commission”), pursuant to section 751(c) of the Act, determined that revocation of the countervailing and the antidumping duty orders on pasta from Italy and Turkey, and antidumping duty order on clad steel plate from Japan would be likely to lead to continuation or recurrence of material injury to an industry in the United States within a reasonably foreseeable time (66 FR 55697). Therefore, pursuant to 751(d)(2) of the Act and 19 CFR 351.218(f)(4), the Department is publishing this notice of the continuation of the countervailing and antidumping duty orders on pasta from Italy and Turkey, and antidumping duty order on clad steel plate from Japan.

¹ Final Results of Expedited Sunset Reviews: Certain Pasta From Italy and Turkey, 66 FR 51015 (October 5, 2001). Final Results of Sunset Review: Countervailing Duty Order on Certain Pasta From Italy, 66 FR 51640 (October 10, 2001). Final Results of Expedited Sunset Review: Countervailing Duty Order on Certain Pasta From Turkey, 66 FR 51019 (October 5, 2001). Final Results of Expedited Sunset Review; Clad Steel Plate From Japan, 66 FR 51007 (October 5, 2001).

EFFECTIVE DATE: November 16, 2001.

FOR FURTHER INFORMATION CONTACT: Martha V. Douthit, Office of Policy for Import Administration, International Trade Administration, U.S. Department of Commerce, 14th Street and Constitution Ave., NW., Washington, DC 20230; telephone: (202) 482-5050.

SUPPLEMENTARY INFORMATION:

Statute and Regulations

Unless otherwise indicated, all citations to the statute are references to the Tariff Act of 1930 (the Act). In addition, unless otherwise indicated, all citations to the Department's regulations are to the current regulations, codified at 19 CFR part 351 (2001).

Background

On June 1, 2001, the Department initiated (66 FR 29771), and the Commission instituted (66 FR 29771), sunset reviews of the countervailing and the antidumping duty orders on pasta from Italy and Turkey, and antidumping duty order on clad steel plate from Japan pursuant to section 751(c) of the Act. As a result of these reviews, the Department found that revocation of the countervailing and antidumping duty orders would be likely to lead to continuation or recurrence of a countervailable subsidy or dumping, and notified the Commission of the magnitude of the margins likely to prevail were the orders revoked.²

² Final Results of Expedited Sunset Reviews: Certain Pasta From Italy and Turkey, 66 FR 51015 (October 5, 2001). Final Results of Sunset Review: Countervailing Duty Order on Certain Pasta From Italy, 66 FR 51640 (October 10, 2001), Final Results of Expedited Sunset Review: Countervailing Duty Order on Certain Pasta From Turkey, 66 FR 51019 (October 5, 2001). Final Results of Expedited Sunset Review: Clad Steel Plate From Japan, 66 FR 51007 (October 5, 2001).

On November 2, 2001, the Commission determined, pursuant to section 751(c) of the Act, that revocation of the countervailing and antidumping duty orders on pasta from Italy and Turkey, would be likely to lead to continuation or recurrence of material injury to an industry in the United States within a reasonably foreseeable time.³

³ See USITC Publication 3462, (October 2001), Investigations Nos. 701-TA-365-366 (Review) and 731-TA-734-735 (Review)(66 FR 55697).

Scope of Orders

Italy and Turkey: Pasta

The scope of the order covers shipments of certain non-egg dry pasta in packages of five pounds (2.27 kilograms) or less, whether or not enriched or fortified or containing milk or other optional ingredients such as chopped vegetables, vegetable purees, milk, gluten, diastasis, vitamins, coloring and flavorings, and up to two percent egg white. Pasta covered by this order is typically sold in the retail market, in fiberboard or cardboard cartons or polyethylene or polypropylene bags, of varying dimensions. Excluded from the order on pasta from Turkey and Italy are refrigerated, frozen, or canned pastas, as well as all forms of egg pasta, with the exception of non-egg dry pasta containing up to two percent egg white. Excluded from the order on pasta from Italy are imports of organic pasta from Italy that are accompanied by the appropriate certificate issued by the Istituto Mediterraneo Di Certificazione (“IMC”), by Bioagricoop Scrl, by QC&I International Services, by Ecocert Italia, by the Conzorzio per il Controllo dei Prodotti Biologici, or by the Associazione Italiana per l'Agricoltura Biologica.

The subject merchandise is currently classifiable under subheading 1902.19.20 of the Harmonized Tariff Schedule of the United States (“HTSUS”). Although the HTSUS subheading is provided for convenience and Customs purposes, our written description of the scope of these orders is dispositive.

Japan: Clad Steel Plate

The scope of the order is all clad steel plate of a width of 600 millimeters (“mm”) or more and a composite thickness of 4.5 mm or more. Clad steel plate is a rectangular finished steel mill product consisting of a layer of cladding material (usually stainless steel or nickel) which is metallurgically bonded to a base or backing of ferrous metal (usually carbon or low alloy steel) where the latter predominates by weight. Cladding is the association of layers of metals of different colors or natures by molecular interpenetration of the surfaces in contact. This limited diffusion is characteristic of clad products and differentiates them from products metalized in other manners (i.e., by normal electroplating). The various cladding processes include pouring molten cladding metal onto the basic metal followed by rolling; simple hot-rolling of the cladding metal to ensure efficient welding to the basic metal; any other method of deposition of superimposing of the cladding metal followed by any mechanical or thermal process to ensure welding (i.e., electrocladding), in which the cladding metal (nickel, Chromium, etc.) is applied to the basic metal by electroplating, molecular interpenetration of the surfaces in contact then being obtained by heat treatment at the appropriate temperature with subsequent cold rolling. See Harmonized Commodity Description and Coding System Explanatory Notes, Chapter 72, General Note (IV)(C)(2)(e). Stainless clad steel plate is manufactured to American Society for Testing and Materials (“ASTM”) specifications A263 (400 series stainless types) and A264 (300 series stainless types). Nickel and nickel-base alloy clad steel plate is manufactured to ASTM specification A265. These specifications are illustrative but not necessarily all-inclusive. Clad steel plate within the scope of this order is classifiable under the Harmonized Tariff Schedule of the United States (“HTSUS”) 7210.90.10.00. Although the HTSUS subheading is provided for convenience and Customs purposes, our written description of the scope of these orders is dispositive.

Determinations

As a result of the determinations by the Department and the Commission that revocation of the countervailing and antidumping duty orders would be likely to lead to continuation or recurrence of a countervailable subsidy or dumping, and material injury, to an industry in the United States, pursuant to section 751(d)(2) of the Act, the Department hereby orders the continuation of the countervailing and antidumping duty orders on pasta from Italy and Turkey, and the antidumping duty order on clad steel plate from Japan. The effective date of continuation of these orders will be the date of publication in the Federal Register of this notice of continuation. Pursuant to section 751(c)(2) of the Act, the Department intends to initiate the next five-year review of these orders not later than October 2006.

Dated: November 9, 2001.
Faryar Shirzad,
Assistant Secretary for Import Administration.

[FR Doc. 01-28757 Filed 11-15-01; 8:45 am]

BILLING CODE 3510-DS-P